DEPARTMENT OF HEALTH AND HUMAN SERVICES

Administration for Children and Families

Proposed Information Collection Activity; 45 CFR 303.7—Provision of Services in Intergovernmental IV-D; Federally Approved Forms (OMB #0970-0085)

AGENCY: Office of Child Support Enforcement, Administration for Children and Families, HHS.

ACTION: Request for public comment.

SUMMARY: The Office of Child Support Enforcement is requesting a 3-year extension of the Provision of Services in Intergovernmental IV-D; Federally Approved Forms (OMB #0970-0085, expiration December 31, 2022). There are no changes requested to these forms.

DATES: Comments due within 60 days of publication. In compliance with the requirements of the Paperwork Reduction Act of 1995, the Administration for Children and Families is soliciting public comment on the specific aspects of the information collection described above.

ADDRESSES: You can obtain copies of the proposed collection of information and submit comments by emailing infocollection@acf.hhs.gov. Identify all requests by the title of the information collection.

SUPPLEMENTARY INFORMATION:

Description: Public Law 113-183, the Preventing Sex Trafficking and Strengthening Families Act, amends section 466(f) of the Social Security Act requiring all states to enact any amendments to the Uniform Interstate Family Support Act “officially adopted as of September 30, 2008, by the National Conference of Commissioners on Uniform State Laws” (referred to as UIFSA 2008). Section 311(b) of UIFSA requires states to use forms mandated by federal law. 45 CFR 303.7(a)(4) also requires child support programs to use federally approved forms in intergovernmental IV-D cases unless a country has provided alternative forms.

Respondents: State agencies administering a child support program under title IV-D of the Social Security Act.

Annual Burden Estimates
Instrument | Total number of respondents | Total number of responses per respondent | Average burden hours per response | Annual burden hours
Transmittal #1—Initial Request | 54 | 16,048 | 0.17 | 147,321
Transmittal #1—Initial Request Acknowledgement | 54 | 16,048 | 0.05 | 43,330
Transmittal #2—Subsequent Action | 54 | 12,036 | 0.08 | 51,996
Transmittal #3—Request for Assistance/Discovery | 54 | 2,407 | 0.08 | 10,398
Uniform Support Petition | 54 | 6,419 | 0.05 | 17,331
General Testimony | 54 | 6,419 | 0.33 | 114,387
Declaration in Support of Establishing Parentage | 54 | 2,407 | 0.15 | 19,497
Child Support Locate Request | 54 | 160 | 0.05 | 432
Notice of Determination of Controlling Order | 54 | 2 | 0.25 | 27
Letter of Transmittal Requesting Registration | 54 | 9,629 | 0.08 | 41,597
Personal Information Form For UIFSA § 311 | 54 | 6,419 | 0.05 | 17,331
Child Support Agency Confidential Information Form | 54 | 19,258 | 0.05 | 51,997
Request for Change of Support Payment Location Pursuant to UIFSA 319(b) | 54 | 80 | 0.05 | 216

Estimated Total Annual Burden Hours: 515,860.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 45 CFR 303.7.

Mary B. Jones,
ACF/OPRE Certifying Officer.

[FR Doc. 2022-06407 Filed 3-25-22; 8:45 am]

BILLING CODE 4184-41-P